DEPARTMENT OF ENERGY

Federal Energy Regulatory Commission

[Project No. 14742-000]

Ute Indian Tribe; Notice of Preliminary Permit Application Accepted for Filing and Soliciting Comments, Motions To Intervene, and Competing Applications

On December 12, 2015, the Ute Indian Tribe, filed an application for a preliminary permit, pursuant to section 4(f) of the Federal Power Act (FPA), proposing to study the feasibility of the Ute Pumped Storage Project (Ute Project or project) adjacent to the Bureau of Reclamation's Flaming Gorge Reservoir, in Daggett County, Utah. The sole purpose of a preliminary permit, if issued, is to grant the permit holder priority to file a license application during the permit term. A preliminary permit does not authorize the permit holder to perform any land-disturbing activities or otherwise enter upon lands or waters owned by others without the owners' express permission.

The proposed pumped storage project would consist of the following: (1) An intake and discharge structure at one of seven locations in Flaming Gorge Reservoir; (2) an underground tailrace between the reservoir intake/outlet structure and the powerhouse; (3) pump-turbine units in an underground powerhouse with generation capacity of between 500 to 1,000 megawatts; (4) a penstock between the powerhouse and the upper reservoir; (5) a dam at one of seven locations forming the upper reservoir; (6) an upper reservoir at one of seven locations with a capacity between 5,000 and 10,000 acre-feet at an elevation between 6,800 and 7,500 feet above mean sea level; (7) a transmission line from the powerhouse to the nearest major transmission interconnection; and (10) appurtenant facilities. The estimated annual generation of the Ute Project would be between 400 and 850 gigawatt-hours.

Applicant Contact: Shaun Chapoose, Chairman, Ute Tribal Business Committee, Ute Indian Tribe, P.O. Box 190, Fort Duchesne, Utah 84026; phone: (435) 722-5141.

FERC Contact: Joseph Hassell; phone: (202) 502-8079.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14742-000.

More information about this project, including a copy of the application, can be viewed or printed on the “eLibrary” link of Commission's Web site at http://www.ferc.gov/docs-filing/ecomment.asp. Enter the docket number (P-14742) in the docket number field to access the document. For assistance, contact FERC Online Support.

Dated: June 15, 2016.
Kimberly D. Bose,
Secretary.

[FR Doc. 2016-14602 Filed 6-20-16; 8:45 am]

BILLING CODE 6717-01-P